NUCLEAR REGULATORY COMMISSION

[Docket No. 50-285; NRC-2014-0159]

Omaha Public Power District; Fort Calhoun Station, Unit No. 1

AGENCY: Nuclear Regulatory Commission.

ACTION: License amendment application; withdrawal by applicant.

SUMMARY: The U.S. Nuclear Regulatory Commission (NRC) has granted the request of Omaha Public Power District to withdraw its application dated April 25, 2014, as supplemented by letter dated February 13, 2015, for a proposed amendment to Renewed Facility Operating License No. DPR-40. The proposed amendment would have revised Section 5.11, “Structures Other Than Containment,” and Appendix F, “Classification of Structures and Equipment and Seismic Criteria,” of the Fort Calhoun Station, Unit No. 1, Updated Safety Analysis Report.

ADDRESSES: Please refer to Docket ID NRC-2014-0159 when contacting the NRC about the availability of information regarding this document. You may obtain publicly-available information related to this document using any of the following methods:

• Federal Rulemaking Web site: Go to http://www.regulations.gov and search for Docket ID NRC-2014-0159. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Fred Lyon, Office of Nuclear Reactor Regulation, U.S. Nuclear Regulatory Commission, Washington, DC 20555-0001; telephone: 301-415-2296 email: Fred.Lyon@nrc.gov.

SUPPLEMENTARY INFORMATION: The NRC has granted the request of Omaha Public Power District (the licensee) to withdraw its application dated April 25, 2014, as supplemented by letter dated February 13, 2015 (ADAMS Accession Nos. ML14118A435 and ML15050A257, respectively), for a proposed amendment to Renewed Facility Operating License No. DPR-40 for the Fort Calhoun Station, Unit No. 1, located in Washington County, Nebraska.

The proposed amendment would have revised Section 5.11, “Structures Other Than Containment,” and Appendix F, “Classification of Structures and Equipment and Seismic Criteria,” of the Updated Safety Analysis Report to clarify the licensing and design basis to permit the use of seismic floor response spectra in analysis and design of seismic Class I structures and structural elements attached to structures.

The Commission had previously issued a Notice of Consideration of Issuance of Amendment published in the Federal Register on July 8, 2014 (79 FR 38593). However, by letter dated April 1, 2015 (ADAMS Accession No. ML15090A743), the licensee withdrew the proposed change.

Dated at Rockville, Maryland, this 6th day of April 2015.
For the Nuclear Regulatory Commission.
Carl F. Lyon,
Project Manager, Plant Licensing Branch IV-1, Division of Operating Reactor Licensing, Office of Nuclear Reactor Regulation.

[FR Doc. 2015-08393 Filed 4-10-15; 8:45 am]

BILLING CODE 7590-01-P